DEPARTMENT OF AGRICULTURE

Forest Service

Basin Creek Mine Final Water Treatment System proposal, Beaverhead-Deerlodge National Forest, Jefferson County, MT

AGENCY: Forest Service, USDA.

ACTION: Notice; intent to prepare environmental impact statement.

SUMMARY: The Forest Service will prepare an environmental impact statement to document the analysis and disclose the environmental impacts of a proposed action to develop a final water treatment system at the inactive Basin Creek Mine. The mine site is located on the Continental Divide about 30 miles southwest of Helena, Montana.

The proposed action would finalize the reclamation of the closed mine by defining a long-term water treatment system to treat effluent coming from the reclaimed leach pad (known as Leach Pad 3) on National Forest System lands. The effluent needs to be treated in perpetuity to ensure that any residual contaminants (cyanide or heavy metals) originating from the reclaimed leach pad do not degrade water quality. The decision to be made is to determine the type of final water treatment system that will be developed.

DATES: Initial comments concerning the scope of the analysis should be received in writing no later than January 31, 2001.

ADDRESSES: The responsible official is Forest Supervisor Janette Kaiser, Beaverhead-Deerlodge National Forest, Dillon, Montana. To facilitate the analysis of public comments, send written comments to District Ranger Terry Sexton, Jefferson Ranger District, 3 Whitetail Road, Whitehall, MT 59759. Comments may be electronically submitted to tsexton@fs.fed.us.

FOR FURTHER INFORMATION CONTACT: Terry Sexton, District Ranger, at the above address, or phone (406) 287-3223 or 1-800-433-9206, or by email to tsexton@fs.fed.us.

SUPPLEMENTARY INFORMATION: The Basin Creek Mine is an inactive open pit heap leach gold mine. The site contains the headwaters of the municipal watersheds for the city of Helena (Monitor Creek) and the town of Basin (Basin Creek). Active mining operations were most recently conducted from 1988 through 1990 on patented land belonging to Pegasus Gold Corporation and National Forest System lands administered by the Beaverhead-Deerlodge National Forest. Final reclamation and closure of the site began in 1994 and is scheduled for completion in the fall of 2001. The State of Montana Department of Environmental Quality will be preparing a separate document to analyze the effects of a proposed action to develop final water treatment systems for two other sources of effluent located on private land at the mine site. Discharges from the water treatment systems will require a National Pollutant Discharge Elimination System (NPDES) permit; a federal permit issued by the Corp of Engineers.

The Forest Service, Environmental Protection Agency, and the State of Montana are cooperating agencies for this proposal.

The project area is located in Township 8N, Range 6W, Sections 25 and 26. The scope of this proposal is limited to developing a final long-term water treatment system for the effluent originating from Leach Pad 3.

Public participation is important to this analysis. Part of the goal of public involvement is to identify additional issues and to refine the general, tentative issues. A scoping notice describing the proposal will be mailed to those who request information on mining activities on the Beaverhead-Deerlodge National Forest. There are no scoping meetings scheduled.

Preliminary issues identified by the Forest Service include effects to water quality, and maintenance and effective life of the water treatment system. The analysis will consider all reasonably foreseeable activities. The interdisciplinary team has not yet identified any preliminary alternatives to the proposed action. Alternatives will be developed based on the key issues identified after scoping.

People may visit with Forest Service officials at any time during the analysis and prior to the decision. Two periods are specifically designated for comments on the analysis: (1) During the scoping process and (2) during the draft EIS period.

During the scoping process, the Forest Service is seeking additional information and comments from individuals or organization who may be interested in or affected by the proposed action, and Federal, State and local agencies. The Forest Service invites written comments and suggestions on this action, particularly in terms of identification of issues and alternative development.

The draft EIS should be available for review in March, 2001. The final EIS is scheduled for completion in May, 2001.

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important the those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

The responsible official will make the decision on this proposal after considering comments and responses, environmental consequences discussed in the final EIS, applicable laws, regulations, and policies. The decision and reasons for the decision will be documented in a Record of Decision.

Dated: December 18, 2000.
Janette S. Kaiser,
Forest Supervisor.

[FR Doc. 01-1818 Filed 1-19-01; 8:45 am]

BILLING CODE 3410-11-M